DEPARTMENT OF COMMERCE

National Telecommunications and Information Administration

Notice, One-Day Spectrum Efficiency and New Technology Forum

AGENCY: National Telecommunications and Information Administration, U.S. Department of Commerce.

ACTION: Notice of public meeting.

SUMMARY: The U.S. Department of Commerce's National Telecommunications and Information Administration (NTIA) will host a one-day spectrum efficiency and new technology forum. The first panel will discuss incentives for more efficient and beneficial spectrum use and cover such topics as defining efficiency, comparing efficiency to effectiveness, measuring methods of efficiency, and identifying policies to achieve efficient spectrum use. The second panel will discuss the development of new and expanded services and technologies that improve efficiency and streamline technology deployment. Both panels will feature participation from representatives of key industries and organizations that use spectrum, economists and analysts, technologists and futurists, equipment manufacturers, and experts from government and academia.

DATES: The forum will be held from 9 a.m. to 4:30 p.m. on Tuesday, December 9, 2003.

ADDRESSES: The Spectrum Efficiency and New Technology Forum will be held at the U.S. Department of Commerce, 1401 Constitution Avenue, NW., Room 4830, Washington, DC (the entrance to the Department of Commerce is on 14th Street between Constitution and Pennsylvania Avenues). All events are open to the public. To facilitate entry into the Department of Commerce, please have a photo identification and/or U.S. Government building pass, if applicable.

FOR FURTHER INFORMATION CONTACT: Joe Gattuso, NTIA Office of Policy Analysis and Development, at (202) 482-1880, or electronic mail: jgattuso@ntia.doc.gov. Please direct media inquiries to the Office of Public Affairs, NTIA, at (202) 482-7002.

SUPPLEMENTARY INFORMATION: This forum is one in a series of discussions to implement the President's Spectrum Policy Initiative, which will result in recommendations to the Administration for improving spectrum management policies and procedures. On May 29, 2003, the President signed a Presidential Memorandum outlining the Administration's initiative for spectrum management reform. The President established the “Spectrum Policy Initiative” to promote the development and implementation of a U.S. spectrum policy for the 21st century. He directed the Secretary of Commerce to chair the initiative, which includes two courses of spectrum-related activity, one based on an interagency task force and the other on a series of public meetings. The Department of Commerce will develop recommendations for revising policies and procedures to promote more efficient and beneficial use of spectrum without harmful interference to incumbent users.

NTIA will provide additional information about the forum in the near future on its home page at www.ntia.doc.gov.

Public Participation: The panel discussions will be open to the public and press on a first-come, first-served basis. Space is limited. Due to security requirements and to facilitate entry to the Department of Commerce building, attendees must present photo identification and/or a U.S. Government building pass, if applicable, and should arrive at least one-half hour ahead of the panel sessions. The public meeting is physically accessible to people with disabilities. Any member of the public wishing to attend and requiring special services, such as sign language interpretation or other ancillary aids, should contact Joe Gattuso at (202) 482-1880 or at jgattuso@ntia.doc.gov, at least three (3) days prior to the meeting.

Dated: November 18, 2003.
Kathy D. Smith,
Chief Counsel, National Telecommunications and Information Administration.

[FR Doc. 03-29208 Filed 11-21-03; 8:45 am]

BILLING CODE 3510-60-P